DEPARTMENT OF COMMERCE

International Trade Administration

[A-433-812]

Certain Carbon and Alloy Steel Cut-To-Length Plate From Austria: Final Determination of Sales at Less Than Fair Value and Final Affirmative Determination of Critical Circumstances

AGENCY: Enforcement and Compliance, International Trade Administration, Commerce.

SUMMARY: The Department of Commerce (the Department) determines that certain carbon and alloy steel cut-to-length plate (CTL plate) from Austria is being, or is likely to be, sold in the United States at less than fair value (LTFV). In addition, we determine that critical circumstances exist with respect to voestalpine, but not for all-other Austrian producers, imports, or exports of the subject merchandise. The period of investigation (POI) is April 1, 2015, through March 31, 2016. The final dumping margins of sales at LTFV are listed below in the “Final Determination” section of this notice.

DATES: Effective April 4, 2017.

FOR FURTHER INFORMATION CONTACT: Edythe Artman or Madeline Heeren, AD/CVD Operations, Office IV, Enforcement and Compliance, International Trade Administration, U.S. Department of Commerce, 1401 Constitution Avenue NW., Washington, DC 20230; telephone: (202) 482-3931 and (202) 482-9179, respectively.

SUPPLEMENTARY INFORMATION:

Background

On November 14, 2016, the Department published the Preliminary Determination of sales at LTFV of CTL plate from Austria.¹ A summary of the events that occurred since the Department published the Preliminary Determination, as well as a full discussion of the issues raised by parties for this final determination, may be found in the Issues and Decision Memorandum, which is hereby adopted by this notice.²

¹ See Certain Carbon and Alloy Steel Cut-to-Length Plate from Austria: Preliminary Determination of Sales at Less Than Fair Value and Postponement of the Final Determination, 81 FR 79416 (November 14, 2016) (Preliminary Determination).

² See Memorandum from Gary Taverman, Associate Deputy Assistant Secretary for Antidumping and Countervailing Duty Operations, to Ronald K. Lorentzen, Acting Assistant Secretary for Enforcement and Compliance, entitled “Issues and Decision Memorandum for the Final Affirmative Determination in the Less-Than-Fair-Value Investigation of Certain Carbon and Alloy Steel Cut-to-Length Plate from Austria,” dated concurrently with, and hereby adopted by, this notice (Issues and Decision Memorandum).

Scope of the Investigation

The scope of the investigation covers CTL plate from Austria. For a complete description of the scope of the investigation, see Appendix I.

Analysis of Comments Received

All issues raised in the case and rebuttal briefs by parties in this investigation are addressed in the Issues and Decision Memorandum. A list of the issues raised is attached to this notice as Appendix II. The Issues and Decision Memorandum is a public document and is on file electronically via Enforcement and Compliance's Antidumping and Countervailing Duty Centralized Electronic Service System (ACCESS). ACCESS is available to registered users at https://access.trade.gov and it is available to all parties in the Central Records Unit, room B-8024 of the main Department of Commerce building. In addition, a complete version of the Issues and Decision Memorandum can be accessed directly at http://enforcement.trade.gov/frn/index.html. The signed and electronic versions of the Issues and Decision Memorandum are identical in content.

Verification

As provided in section 782(i) of the Tariff Act of 1930, as amended (the Act), in November 2016 through January 2017 we verified the sales and cost information submitted by voestalpine ³ for use in our final determination. We used standard verification procedures, including an examination of relevant accounting and production records, and original source documents provided by voestalpine.⁴

³ In a Memorandum to Scot Fullerton, Director, Office VI, on the subject of the “Less Than Fair Value Investigation of Certain Carbon and Alloy Steel Cut-To-Length Plate from Austria: Preliminary Affiliation and Collapsing Memorandum for voestalpine,” dated November 4, 2016, we preliminarily determined that the following companies were affiliated and should be treated as a single entity for purposes of the investigation, pursuant to section 771(33)(F) of the Act: voestalpine Grobblech and voestalpine Steel Service Center GmbH, which are producers of carbon plate; Bohler Edelstahl GmbH & Co KG and Bohler Bleche GmbH & Co KG, producers of alloy plate; and Bohler International GmbH, a home-market sales affiliate (collectively voestalpine). The finding has not changed for the final determination and we refer to the collapsed entity as “voestalpine” throughout this notice.

⁴ For discussion of our verification findings, see the following memoranda: Memorandum to the File from Madeline Heeren and Chelsey Simonovich, Analysts, AD/CVD Operations, Office VI, entitled “Verification of the Sales Response of voestalpine Steel and Service Center GmbH (SSC) and Bohler Bleche GmbH & Co. KG (BBG) in the Antidumping Duty Investigation from Austria,” dated February 9, 2017; Memorandum to the File from Edythe Artman, Madeline Heeren, and Chelsey Simonovich, Analysts, AD/CVD Operations, Office VI, entitled “Verification of Bohler-Uddeholm Corporation in the Antidumping Duty Investigation of Certain Carbon and Alloy Steel Cut-to-Length Plate from Austria,” dated February 9, 2017; Memorandum to the File from Milton Koch, Accountant, and Taija A. Slaughter, Supervisory Accountant, Office of Accounting, entitled “Verification of the Cost Response of voestalpine AG in the Antidumping Duty Investigation of Certain Carbon and Alloy Steel Cut-to-Length Plate from Austria,” dated January 30, 2017; and Memorandum to the File from Milton Koch, Accountant, and Taija A. Slaughter, Supervisory Accountant, entitled “Verification of the Cost Response of voestalpine AG in the Antidumping Duty Investigation of Certain Carbon and Alloy Steel Cut-to-Length Plate from Austria,” dated February 1, 2017.

Changes Since the Preliminary Determination

Based on our analysis of the comments received and our findings at verification, we made certain changes to the margin calculations for voestalpine. For a discussion of these changes, see the “Margin Calculations” section of the Issues and Decision Memorandum.

Final Affirmative Determination of Critical Circumstances

For the Preliminary Determination, the Department found that critical circumstances exist with respect to imports of CTL plate from voestalpine and do not exist with respect to imports of CTL plate from the companies that are covered by the “all others” rate.⁵ Our analysis and conclusion concerning critical circumstances remain unchanged for our final determination. For further discussion, see the Issues and Decision Memorandum and Final Critical Circumstances Data Memo.⁶

⁵ See Preliminary Determination, and accompanying Preliminary Decision Memorandum at 23.

⁶ See Memorandum to the File, “Calculations for Final Determination of Critical Circumstances in the Antidumping Duty Investigation of Certain Carbon and Alloy Steel Cut-to-Length Plate from Austria,” dated March 29, 2017 (Final Critical Circumstances Data Memo).

All-Others Rate

Section 735(c)(5)(A) of the Act provides that the estimated all-others rate shall be an amount equal to the weighted-average of the estimated weighted-average dumping margins established for exporters and producers individually investigated, excluding any zero or de minimis margins, and margins determined entirely under section 776 of the Act. voestalpine is the only respondent for which the Department calculated a specific margin. Therefore, for purposes of calculating the “all-others” rate, and pursuant to section 735(c)(5)(A) of the Act, we are using the dumping margin calculated for voestalpine as the all-others rate, as referenced in the “Final Determination” section below.

Final Determination

The final weighted-average dumping margins are as follows:

Exporter/manufacturer | Weighted- average dumping margin (percent)
Bohler Bleche GmbH & Co KG | 53.72
Bohler Edelstahl GmbH & Co KG
Bohler International GmbH
voestalpine Grobblech GmbH
voestalpine Steel Service Center GmbH
All Others | 53.72

Disclosure

We will disclose the calculations performed within five days of the date of publication of this notice to parties in this proceeding in accordance with 19 CFR 351.224(b).

Continuation of Suspension of Liquidation

In accordance with section 735(c)(1)(B) of the Act, the Department will instruct U.S. Customs and Border Protection (CBP) to continue to suspend liquidation of all appropriate entries of CTL plate from Austria, as described in Appendix I of this notice, which were entered, or withdrawn from warehouse, for consumption on or after November 14, 2016, the date of publication of the preliminary determination of this investigation in the Federal Register. For entries made by voestalpine, in accordance with section 735(c)(4)(A) of the Act, because we continue to find that critical circumstances exist, we will instruct CBP to continue to suspend liquidation of all appropriate entries of CTL plate from Austria which were entered, or withdrawn from warehouse, for consumption on or after August 16, 2016, which is 90 days prior to the date of publication of the preliminary determination of this investigation in the Federal Register. Further, the Department will instruct CBP to require a cash deposit equal to the estimated amount by which the normal value exceeds the U.S. price as shown above.

International Trade Comission (ITC) Notification

In accordance with section 735(c)(1)(A) and (d) of the Act, we will notify the ITC of the final affirmative determination of sales at LTFV. Because the final determination in this proceeding is affirmative, in accordance with section 735(b)(2) of the Act, the ITC will make its final determination as to whether the domestic industry in the United States is materially injured, or threatened with material injury, by reason of imports of CTL plate from Austria no later than 45 days after our final determination. If the ITC determines that material injury or threat of material injury does not exist, the proceeding will be terminated and all cash deposits will be refunded. If the ITC determines that such injury does exist, the Department will issue an antidumping duty order directing CBP to assess, upon further instruction by the Department, antidumping duties on all imports of the subject merchandise entered, or withdrawn from warehouse, for consumption on or after the effective date of the suspension of liquidation.

Notification Regarding Administrative Protective Orders (APO)

This notice serves as a reminder to parties subject to APO of their responsibility concerning the disposition of proprietary information disclosed under APO in accordance with 19 CFR 351.305(a)(3). Timely notification of the return or destruction of APO materials, or conversion to judicial protective order, is hereby requested. Failure to comply with the regulations and the terms of an APO is a sanctionable violation.

This determination and this notice are issued and published pursuant to sections 735(d) and 777(i)(1) of the Act.

Dated: March 29, 2017.
Ronald K. Lorentzen,
Acting Assistant Secretary for Enforcement and Compliance.

Appendix I

Scope of the Investigation

The products covered by this investigation are certain carbon and alloy steel hot-rolled or forged flat plate products not in coils, whether or not painted, varnished, or coated with plastics or other non-metallic substances (cut-to-length plate). Subject merchandise includes plate that is produced by being cut-to-length from coils or from other discrete length plate and plate that is rolled or forged into a discrete length. The products covered include (1) Universal mill plates (i.e., flat-rolled products rolled on four faces or in a closed box pass, of a width exceeding 150 mm but not exceeding 1250 mm, and of a thickness of not less than 4 mm, which are not in coils and without patterns in relief), and (2) hot-rolled or forged flat steel products of a thickness of 4.75 mm or more and of a width which exceeds 150 mm and measures at least twice the thickness, and which are not in coils, whether or not with patterns in relief. The covered products described above may be rectangular, square, circular or other shapes and include products of either rectangular or non-rectangular cross-section where such non-rectangular cross-section is achieved subsequent to the rolling process, i.e., products which have been “worked after rolling” (e.g., products which have been beveled or rounded at the edges).

For purposes of the width and thickness requirements referenced above, the following rules apply:

(1) Except where otherwise stated where the nominal and actual thickness or width measurements vary, a product from a given subject country is within the scope if application of either the nominal or actual measurement would place it within the scope based on the definitions set forth above; and

(2) where the width and thickness vary for a specific product (e.g., the thickness of certain products with non-rectangular cross-section, the width of certain products with non-rectangular shape, etc.), the measurement at its greatest width or thickness applies.

Steel products included in the scope of this investigation are products in which: (1) Iron predominates, by weight, over each of the other contained elements; and (2) the carbon content is 2 percent or less by weight.

Subject merchandise includes cut-to-length plate that has been further processed in the subject country or a third country, including but not limited to pickling, oiling, levelling, annealing, tempering, temper rolling, skin passing, painting, varnishing, trimming, cutting, punching, beveling, and/or slitting, or any other processing that would not otherwise remove the merchandise from the scope of the investigation if performed in the country of manufacture of the cut-to-length plate.

All products that meet the written physical description, are within the scope of this investigation unless specifically excluded or covered by the scope of an existing order. The following products are outside of, and/or specifically excluded from, the scope of this investigation:

(1) Products clad, plated, or coated with metal, whether or not painted, varnished or coated with plastic or other non-metallic substances;

(2) military grade armor plate certified to one of the following specifications or to a specification that references and incorporates one of the following specifications:

• MIL-A-12560,

• MIL-DTL-12560H,

• MIL-DTL-12560J,

• MIL-DTL-12560K,

• MIL-DTL-32332,

• MIL-A-46100D,

• MIL-DTL-46100-E,

• MIL-46177C,

• MIL-S-16216K Grade HY80,

• MIL-S-16216K Grade HY100,

• MIL-S-24645A HSLA-80;

• MIL-S-24645A HSLA-100,

• T9074-BD-GIB-010/0300 Grade HY80,

• T9074-BD-GIB-010/0300 Grade HY100,

• T9074-BD-GIB-010/0300 Grade HSLA80,

• T9074-BD-GIB-010/0300 Grade HSLA100, and

• T9074-BD-GIB-010/0300 Mod. Grade HSLA115,

except that any cut-to-length plate certified to one of the above specifications, or to a military grade armor specification that references and incorporates one of the above specifications, will not be excluded from the scope if it is also dual- or multiple-certified to any other non-armor specification that otherwise would fall within the scope of this investigation;

(3) stainless steel plate, containing 10.5 percent or more of chromium by weight and not more than 1.2 percent of carbon by weight;

(4) CTL plate meeting the requirements of ASTM A-829, Grade E 4340 that are over 305 mm in actual thickness;

(5) Alloy forged and rolled CTL plate greater than or equal to 152.4 mm in actual thickness meeting each of the following requirements:

(a) Electric furnace melted, ladle refined & vacuum degassed and having a chemical composition (expressed in weight percentages):

• Carbon 0.23-0.28,

• Silicon 0.05-0.20,

• Manganese 1.20-1.60,

• Nickel not greater than 1.0,

• Sulfur not greater than 0.007,

• Phosphorus not greater than 0.020,

• Chromium 1.0-2.5,

• Molybdenum 0.35-0.80,

• Boron 0.002-0.004,

• Oxygen not greater than 20 ppm,

• Hydrogen not greater than 2 ppm, and

• Nitrogen not greater than 60 ppm;

(b) With a Brinell hardness measured in all parts of the product including mid thickness falling within one of the following ranges:

(i) 270-300 HBW,

(ii) 290-320 HBW, or

(iii) 320-350 HBW;

(c) Having cleanliness in accordance with ASTM E45 method A (Thin and Heavy): A not exceeding 1.5, B not exceeding 1.0, C not exceeding 0.5, D not exceeding 1.5; and

(d) Conforming to ASTM A578-S9 ultrasonic testing requirements with acceptance criteria 2 mm flat bottom hole;

(6) Alloy forged and rolled steel CTL plate over 407 mm in actual thickness and meeting the following requirements:

(a) Made from Electric Arc Furnace melted, Ladle refined & vacuum degassed, alloy steel with the following chemical composition (expressed in weight percentages):

• Carbon 0.23-0.28,

• Silicon 0.05-0.15,

• Manganese 1.20-1.50,

• Nickel not greater than 0.4,

• Sulfur not greater than 0.010,

• Phosphorus not greater than 0.020,

• Chromium 1.20-1.50,

• Molybdenum 0.35-0.55,

• Boron 0.002-0.004,

• Oxygen not greater than 20 ppm,

• Hydrogen not greater than 2 ppm, and

• Nitrogen not greater than 60 ppm;

(b) Having cleanliness in accordance with ASTM E45 method A (Thin and Heavy): A not exceeding 1.5, B not exceeding 1.5, C not exceeding 1.0, D not exceeding 1.5;

(c) Having the following mechanical properties:

(i) With a Brinell hardness not more than 237 HBW measured in all parts of the product including mid thickness; and having a Yield Strength of 75ksi min and UTS 95ksi or more, Elongation of 18% or more and Reduction of area 35% or more; having charpy V at −75 degrees F in the longitudinal direction equal or greater than 15 ft. lbs (single value) and equal or greater than 20 ft. lbs (average of 3 specimens) and conforming to the requirements of NACE MR01-75; or

(ii) With a Brinell hardness not less than 240 HBW measured in all parts of the product including mid thickness; and having a Yield Strength of 90 ksi min and UTS 110 ksi or more, Elongation of 15% or more and Reduction of area 30% or more; having charpy V at −40 degrees F in the longitudinal direction equal or greater than 21 ft. lbs (single value) and equal or greater than 31 ft. lbs (average of 3 specimens);

(d) Conforming to ASTM A578-S9 ultrasonic testing requirements with acceptance criteria 3.2 mm flat bottom hole; and

(e) Conforming to magnetic particle inspection in accordance with AMS 2301;

(7) Alloy forged and rolled steel CTL plate over 407 mm in actual thickness and meeting the following requirements:

(a) Made from Electric Arc Furnace melted, ladle refined & vacuum degassed, alloy steel with the following chemical composition (expressed in weight percentages):

• Carbon 0.25-0.30,

• Silicon not greater than 0.25,

• Manganese not greater than 0.50,

• Nickel 3.0-3.5,

• Sulfur not greater than 0.010,

• Phosphorus not greater than 0.020,

• Chromium 1.0-1.5,

• Molybdenum 0.6-0.9,

• Vanadium 0.08 to 0.12

• Boron 0.002-0.004,

• Oxygen not greater than 20 ppm,

• Hydrogen not greater than 2 ppm, and

• Nitrogen not greater than 60 ppm.

(b) Having cleanliness in accordance with ASTM E45 method A (Thin and Heavy): A not exceeding 1.0(t) and 0.5(h), B not exceeding 1.5(t) and 1.0(h), C not exceeding 1.0(t) and 0.5(h), and D not exceeding 1.5(t) and 1.0(h);

(c) Having the following mechanical properties: A Brinell hardness not less than 350 HBW measured in all parts of the product including mid thickness; and having a Yield Strength of 145ksi or more and UTS 160ksi or more, Elongation of 15% or more and Reduction of area 35% or more; having charpy V at −40 degrees F in the transverse direction equal or greater than 20 ft. lbs (single value) and equal or greater than 25 ft. lbs (average of 3 specimens);

(d) Conforming to ASTM A578-S9 ultrasonic testing requirements with acceptance criteria 3.2 mm flat bottom hole; and

(e) Conforming to magnetic particle inspection in accordance with AMS 2301.

The products subject to the investigation are currently classified in the Harmonized Tariff Schedule of the United States (HTSUS) under item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000.

The products subject to the investigation may also enter under the following HTSUS item numbers: 7208.40.6060, 7208.53.0000, 7208.90.0000, 7210.70.3000, 7210.90.9000, 7211.19.1500, 7211.19.2000, 7211.19.4500, 7211.19.6000, 7211.19.7590, 7211.90.0000, 7212.40.1000, 7212.40.5000, 7212.50.0000, 7214.10.0000, 7214.30.0010, 7214.30.0080, 7214.91.0015, 7214.91.0060, 7214.91.0090, 7225.11.0000, 7225.19.0000, 7225.40.5110, 7225.40.5130, 7225.40.5160, 7225.40.7000, 7225.99.0010, 7225.99.0090, 7226.11.1000, 7226.11.9060, 7226.19.1000, 7226.19.9000, 7226.91.0500, 7226.91.1530, 7226.91.1560, 7226.91.2530, 7226.91.2560, 7226.91.7000, 7226.91.8000, and 7226.99.0180.

The HTSUS subheadings above are provided for convenience and customs purposes only. The written description of the scope of the investigation is dispositive.

Appendix II

List of Topics Discussed in the Issues and Decision Memorandum

I. Summary

II. Background

III. Critical Circumstances

IV. Scope of the Investigation

V. Scope Comments

VI. Margin Calculations

VII. Discussion of the Issues

1. Product Characteristic and Model Matching Methodology

2. Collapsing of Companies by Division

3. Changes to Level of Trade Analysis

4. Use of Actual Weight Bases

5. Adjustment to Home Market Sales for Hub Fee

6. Calculation of U.S. Indirect Selling Expenses for Non-Further-Manufactured Products

7. Use of Revised Databases to Calculate Final Dumping Margin

8. Implementation of Verification Findings

a. Reported Weight for a CEP Sale

b. Cost Variances

9. BBG's Purchases from Affiliated Suppliers

10. Grobblech and SSC's Affiliated Supplier Purchases

11. Record Keeping Based on Country of Origin

12. Differential Pricing

VIII. Recommendation

[FR Doc. 2017-06634 Filed 4-3-17; 8:45 am]

BILLING CODE 3510-DS-P